POSTAL REGULATORY COMMISSION

[Docket No. MC2021-78; Order No. 5880]

Transfer of Bound Print Matter Parcels

AGENCY: Postal Regulatory Commission.

ACTION: Notice.

SUMMARY: The Commission is extending the comment deadline in this docket.

DATES: Comments are due: May 17, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On March 30, 2021, the Commission established Docket No. MC2021-78 to consider the Postal Service's request to transfer Bound Printed Matter Parcels from the market dominant product list to the competitive product list.¹ Since the opening of the docket the Commission has received numerous motions from members of the public and the Public Representative requesting that the Commission issue information requests to obtain additional relevant data from the Postal Service, along with motions for access under protective conditions to non-public materials filed in the record.²

¹ Notice and Order Concerning Transfer of Bound Printed Matter Parcels to the Competitive Product List, March 30, 2021; see United States Postal Service Request to Transfer Bound Printed Matter Parcels to the Competitive Product List, March 26, 2021.

² See, e.g., Motion of Scholastic Inc. for Issuance of Information Request, April 9, 2021; Motion of the Public Representative for Issuance of Information Request, April 19, 2021; Parcel Shippers Association's Motion Requesting Access to Non-Public Materials Under Protective Conditions, April 14, 2021.

To give all interested parties sufficient time to review the responses to the information requests and formulate their comments, the Commission hereby extends the deadline for filing comments from May 7, 2021 to May 17, 2021.

It is ordered:

1. Comments by interested persons are due by May 17, 2021.

2. The Secretary shall arrange for publication of this order in the Federal Register.

By the Commission.
Erica A. Barker,
Secretary.

[FR Doc. 2021-09404 Filed 5-4-21; 8:45 am]

BILLING CODE 7710-FW-P